DEPARTMENT OF THE INTERIOR

National Park Service

Notice of Intent To Prepare a General Management Plan and Environmental Impact Statement for the Ice Age National Scenic Trail Interpretive Site and Cross Plains Unit of the Ice Age National Scientific Reserve, WI

AGENCY: National Park Service, Department of the Interior.

ACTION: Notice of Intent to Prepare a General Management Plan and Environmental Impact Statement for the Ice Age National Scenic Trail Interpretive Site and Cross Plains Unit of the Ice Age National Scientific Reserve, Wisconsin.

SUMMARY: Pursuant to Section 102(2)(C) of the National Environmental Policy Act of 1969, 42 U.S.C. 4332(2)(C), the National Park Service (NPS) with the Wisconsin Department of Natural Resources (DNR), is preparing a General Management Plan/Environmental Impact Statement (GMP/EIS) for the Ice Age National Scenic Trail (NST) Interpretive Site and Cross Plains Unit of the Ice Age National Scientific Reserve in Wisconsin. The GMP/EIS will prescribe the resource conditions and visitor experiences that are to be achieved and maintained in these areas over the next 15 to 20 years.

To facilitate sound planning and environmental assessment, the NPS intends to gather information necessary for the preparation of the GMP/EIS and obtain suggestions and information from other Agencies and the public on the scope of issues to be addressed in the GMP/EIS. Because the planning area involves a complex of public lands with different State and Federal designations, the NPS is partnering with the Wisconsin DNR in developing this plan. The U.S. Fish and Wildlife Service will participate in the planning team. Comments and participation in this scoping process are invited. Participation in the planning process will be encouraged and facilitated by various means, including newsletters and open house meetings. The NPS will conduct public scoping meetings to explain the planning process and to solicit opinions about issues to address in the GMP/EIS. Notification of all such meetings will be announced in the local press and in the NPS newsletters.

ADDRESSES: Additionally, if you wish to comment on any issues associated with the GMP/EIS, you may submit your comments by any one of several methods. You may mail or hand-deliver comments to Superintendent, Ice Age and North Country National Scenic Trails, 700 Rayovac Drive, Suite 100, Madison, Wisconsin 53711. You may provide comments electronically by entering them into the NPS's Planning, Environment and Public Comment Web site http://parkplanning.nps.gov. Information will be available for public review and comment from the Office of the Superintendent at the above address.

Requests to be added to the project mailing list should be sent to Manager, Ice Age NST, 700 Rayovac Drive, Suite 100, Madison, Wisconsin 53711; telephone 608-441-5610.

Before including your address, telephone number, e-mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, or organizations or businesses available for public inspection in their entirety.

FOR FURTHER INFORMATION CONTACT: Superintendent, Ice Age and North Country National Scenic Trails, 700 Rayovac Drive, Suite 100, Madison, Wisconsin 53711; telephone 608-441-5610.

SUPPLEMENTARY INFORMATION: The primary purpose of the Ice Age NST is to create an outstanding 1,000-mile hiking trail that follows the terminal moraines and other landscape features left by the last glacial advance and retreat approximately 10,000 years ago. The Ice Age National Scientific Reserve (Reserve), a companion project to the Ice Age NST, is a network of nine units that contain clusters of the most significant examples of landscape features formed by continental glaciation. The Ice Age NST and Reserve are the only authorized areas in the National Park System that focus on interpreting the landscape formed by continental glaciation. The Ice Age NST Interpretive Site lies within the boundary of the Wisconsin DNR Cross Plains Unit of the Reserve.

The NPS efforts to establish, develop, and manage the Ice Age NST are guided by the 1983 Comprehensive Plan for Management and Use of the Ice Age NST. The plan does not address or resolve the many detailed issues associated with owning, operating, and organizing a major interpretive site along the trail, although it cites the NPS authority to establish such a site. The development of a new GMP/EIS for the Ice Age NST Interpretive Site and Cross Plains Unit of the Reserve will result in a long-term (15-20 year) vision for the management and protection of this unique area. The outcome of the GMP/EIS will achieve a consistent management over the entire project, identify necessary developments, and support facilities to achieve the desired outcomes for the Ice Age NST and Interpretive Site, provide direction for restoring and managing the significant geologic and biologic features on the site, and define appropriate visitor use activities.

Dated: May 19, 2008.
Ernest Quintana,
Regional Director, Midwest Region.

[FR Doc. E8-18572 Filed 8-11-08; 8:45 am]

BILLING CODE 4312-KN-P